DEPARTMENT OF TRANSPORTATION

Maritime Administration

[Docket No. MARAD-2000-7020]

Information Collection Available for Public Comments and Recommendations

ACTION: Notice and request for comments.

SUMMARY: In accordance with the Paperwork Reduction Act of 1995, this notice announces the Maritime Administration's (MARAD) intentions to request approval for three years of an existing information collection entitled, “Approval of Underwriters for Marine Hull Insurance.”

DATES: Comments should be submitted on or before May 9, 2000.

FOR FURTHER INFORMATION CONTACT: Otto A. Strassburg, Chief, Division of Marine Insurance, Office of Insurance and Shipping Analysis, MAR-570, Room 8117, Maritime Administration, 400 Seventh Street, SW, Washington, D.C. 20590, telephone number: 202-366-4161. Copies of this collection can be obtained from that office.

SUPPLEMENTARY INFORMATION:

Title of Collection: “Approval of Underwriters for Marine Hull Insurance”.

Type of Request: Approval of an existing information collection.

OMB Control Number: 2133-0517.

Form Number: None.

Expiration Date of Approval: Three years from the date of approval.

Summary of Collection of Information: This collection of information involves the approval of marine hull underwriters to insure MARAD program vessels. Foreign applicants will be required to submit financial data upon which MARAD approval would be based. In certain cases, brokers would be required to certify that American underwriters were offered opportunity to compete for the business.

Need and Use of the Information: 46 CFR Part 249, published as a final rule on June 20, 1988, prescribes regulations for approval of underwriters for marine hull insurance on vessels built or operated with subsidy or covered by vessel obligation guarantees issued pursuant to Title XI of the Merchant Marine Act, 1936, as amended. The regulations provide for approval of foreign underwriters on the basis of an assessment of their financial condition, the regulatory regime under which they operate, and a statement attesting to a lack of discrimination in their country against U.S. hull insurers. The regulations also require that American underwriters be given an opportunity to compete for every placement, thereby necessitating in some cases certification that such opportunity was offered.

Description of Respondents: Foreign underwriters of marine insurance and insurance brokers.

Annual Responses: 62 responses.

Annual Burden: 46 hours.

Comments: Comments should refer to the docket number that appears at the top of this document. Written comments may be submitted to the Docket Clerk, U.S. DOT Dockets, Room PL-401, 400 Seventh Street, SW, Washington, D.C. 20590. Comments may also be submitted by electronic means via the Internet at http://dmses.dot.gov/submit. Specifically, address whether this information collection is necessary for proper performance of the function of the agency and will have practical utility, accuracy of the burden estimates, ways to minimize this burden, and ways to enhance quality, utility, and clarity of the information to be collected. All comments received will be available for examination at the above address between 10 a.m. and 5 p.m., et. Monday through Friday, except Federal Holidays. An electronic version of this document is available on the World Wide Web at http://dms.dot.gov.

By Order of the Maritime Administrator.
Dated: March 6, 2000.
Joel C. Richard,
Secretary.

[FR Doc. 00-5899 Filed 3-9-00; 8:45 am]

BILLING CODE 4910-81-P